DEPARTMENT OF HEALTH AND HUMAN SERVICES

Food and Drug Administration

Nutrient Requirements of Domestic Animals and Critical Roles of Animal Nutrition

AGENCY: Food and Drug Administration, HHS.

ACTION: Notice.

SUMMARY: The Food and Drug Administration (FDA), Center for Veterinary Medicine, announces the availability of funds to support an unsolicited grant application submitted by the National Academy of Sciences (NAS). The academy has requested funds to support the activities of the National Research Council's (NRC) Committee on Animal Nutrition (CAN). The central emphasis of CAN, through its species subcommittees is the preparation and updating of a series of reports on the nutrient requirements of animals. This series addresses economically important domestic animals, including food- and fiber-producing species, as well as captive fur-bearing species, aquatic species, companion animals, service and working animals, endangered species, and animals that serve as experimental models in biomedical research. In addition CAN identifies emerging problems in the area of animal nutrition and implements appropriate mechanisms, such as deliberative studies, symposia, workshops, or roundtables to address the issues.

FOR FURTHER INFORMATION CONTACT:

Regarding the administrative and financial management aspects of this notice: Peggy L. Jones, Division of Contracts and Procurement Management (HFA-520), Food and Drug Administration, 5600 Fishers Lane, Rockville, MD 20857, 301-827-7160. Correspondence hand-carried or commercially delivered should be addressed to 5630 Fishers Lane (HFA-520), rm. 2129, Rockville, MD 20857.

Regarding the programmatic aspects of this notice: David B. Batson, Office of Research, Center for Veterinary Medicine (HFV-502), Food and Drug Administration, 8401 Muirkirk Rd., Laurel, MD 20708, 301-827-8021.

SUPPLEMENTARY INFORMATION:

I. Eligible Applicants

Assistance will only be provided to the National Academy of Sciences because of the following:

1. The NAS is the only organization that submitted an unsolicited application for the purpose stated above.

2. The NAS is the only organization that has a standing Committee on Animal Nutrition for the purpose of preparing and updating reports on the nutrient requirements of animals.

3. The NRC is unique with regard to its operation and policies. The core of the NRC's work consists of studies conducted by experts selected by the NRC expressly for their expertise in the relevant scientific issues at hand.

4. CAN was formally organized in 1928 under the auspices of the NAS and NRC to provide advice to Federal agencies and the nation on the nutritional management of important domestic animals.

5. Reports produced by CAN have been widely used and accepted by Federal agencies, the biomedical community, the U.S. animal industry and abroad as a group of unbiased and comprehensive reports that form the basis of nutrient recommendations for animals in the United States and many parts of the world.

6. Reports of CAN have been translated into at least five other languages (Spanish, Russian, Chinese, Japanese, and Turkish) and are used as a standard for animal nutrition throughout the world.

II. Funding

We anticipate that approximately $20,000 will be made available to fund this project. It is expected that the award will begin in either fiscal year (FY) 2000 or FY 2001 and will be made for a 12-month budget period within a project period of up to 3 years. Funding estimates may change. Continuation awards within an approved project period will be made on the basis of satisfactory progress as evidenced by required reports and the availability of funds.

Dated: September 28, 2000.
William K. Hubbard,
Senior Associate Commissioner for Policy, Planning, and Legislation.

[FR Doc. 00-25449 Filed 10-3-00; 8:45 am]

BILLING CODE 4160-01-F